DEPARTMENT OF ENERGY

Federal Energy Regulatory Commission

Combined Notice of Filings

September 18, 2008.

Take notice that the Commission has received the following Natural Gas Pipeline Rate and Refund Report filings:

Docket Numbers: RP08-r456-001.

Applicants: CenterPoint Energy Gas Transmission Company.

Description: CenterPoint Energy Gas Transmission Company submits Sheet No. 492 et al. to FERC Gas Tariff, Sixth Revised Volume No. 1, to be effective 8/27/2008.

Filed Date: 09/16/2008.

Accession Number: 20080917-0238.

Comment Date: 5 p.m. Eastern Time on Wednesday, September 24, 2008.

Docket Numbers: RP08-623-000.

Applicants: Northwest Pipeline, GP.

Description: Northwest Pipeline, GP submits First Revised Sheet No. 213 et al. to FERC Gas Tariff, Fourth Revised Volume No. 1, to be effective 10/16/2008

Filed Date: 09/16/2008.

Accession Number: 20080917-0237.

Comment Date: 5 p.m. Eastern Time on Monday, September 29, 2008.

Docket Numbers: RP08-624-000.

Applicants: Alliance Pipeline L.P.

Description: Alliance Pipeline L.P., submits First Revised Sheet No. 209 et al. to FERC Gas Tariff, Original Volume No. 1, to be effective 11/1/08.

Filed Date: 09/15/2008.

Accession Number: 20080917-0240.

Comment Date: 5 p.m. Eastern Time on Monday, September 29, 2008.

Docket Numbers: CP07-457-001. RP98-18-035.

Applicants: Iroquois Gas Transmission System, L.P.

Description: Iroquois Gas Transmission System, L.P., submits Original Sheet No. 6R et al. to FERC Gas Tariff, First Revised Volume 1, and effective 11/1/08.

Filed Date: 09/15/2008.

Accession Number: 20080917-0239.

Comment Date: 5 p.m. Eastern Time on Monday, September 29, 2008.

Docket Numbers: CP99-163-004. CP05-39-001.

Applicants: Questar Southern Trails Pipeline Company.

Description: Questar Southern Trails Pipeline Company submits First Revised Sheet 3 to Original Volume 1 of its FERC Gas Tariff.

Filed Date: 09/12/2008.

Accession Number: 20080917-0124.

Comment Date: 5 p.m. Eastern Time on Wednesday, September 24, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E8-22317 Filed 9-23-08; 8:45 am]

BILLING CODE 6717-01-P